DEPARTMENT OF HOMELAND SECURITY

U.S. Customs and Border Protection

[CBP Dec. 18-10]

Tuna-Tariff Rate Quota for Calendar Year 2018 Tuna Classifiable Under Subheading 1604.14.22, Harmonized Tariff Schedule of the United States

AGENCY: U.S. Customs and Border Protection, Department of Homeland Security.

ACTION: Announcement of the quota quantity of tuna in airtight containers for Calendar Year 2018.

SUMMARY: Each year, the tariff-rate quota for tuna described in subheading 1604.14.22, Harmonized Tariff Schedule of the United States (HTSUS), is calculated as a percentage of the tuna in airtight containers entered, or withdrawn from warehouse, for consumption during the preceding Calendar Year. This document sets forth the tariff-rate quota for Calendar Year 2018.

DATES: The 2018 tariff-rate quota is applicable to tuna in airtight containers entered, or withdrawn from warehouse, for consumption during the period January 1, 2018 through December 31, 2018.

FOR FURTHER INFORMATION CONTACT: Melba Hubbard, Headquarters Quota Branch, Interagency Collaboration Division, Trade Policy and Programs, Office of Trade, U.S. Customs and Border Protection, Washington, DC 20229-1155, (202) 863-6560.

Background

It has been determined that 13,951,961 kilograms of tuna in airtight containers may be entered, or withdrawn from warehouse, for consumption during the Calendar Year 2018, at the rate of 6.0 percent ad valorem under subheading 1604.14.22, Harmonized Tariff Schedule of the United States (HTSUS). Any such tuna which is entered, or withdrawn from warehouse, for consumption during the current calendar year in excess of this quota will be dutiable at the rate of 12.5 percent ad valorem under subheading 1604.14.30, HTSUS.

Dated: August 23, 2018.
Brenda B. Smith,
Executive Assistant Commissioner, Office of Trade.

[FR Doc. 2018-18687 Filed 8-28-18; 8:45 am]

BILLING CODE 9111-14-P